DEPARTMENT OF JUSTICE

Immigration and Naturalization Service

[INS No. 2125-01; AG Order No. 2404-2001]

RIN 1115-AE26

Designation of El Salvador Under Temporary Protected Status Program

AGENCY: Immigration and Naturalization Service, Justice.

ACTION: Notice.

SUMMARY: This notice designates El Salvador for the Temporary Protected Status (TPS) program for a period of 18 months. Under section 244(b)(1) of the Immigration and Nationality Act, as amended (Act), the Attorney General is authorized to grant TPS to eligible nationals of designated foreign states or parts of such states (or to eligible aliens who have no nationality and who last habitually resided in such designated states) upon finding that such states are experiencing ongoing armed conflict, environmental disaster, or other extraordinary and temporary conditions.

EFFECTIVE DATES: This designation is effective on March 9, 2001 and will remain in effect until September 9, 2002.

FOR FURTHER INFORMATION CONTACT: Rebecca K. Peters, Residence and Status Branch, Adjudications, Immigration and Naturalization Service, 425 I Street, NW., Room 3214, Washington, DC 20536, telephone (202) 514-4754.

SUPPLEMENTARY INFORMATION:

What Is Temporary Protected Status?

TPS is a temporary immigration status granted to eligible nationals of designated countries or part of a designated country. During the period for which the Attorney General has designated a country under the TPS program, TPS beneficiaries are not required to leave the United States and may obtain work authorization. The granting of TPS does not lead to permanent resident status. When the Attorney General terminates a country's TPS designation, beneficiaries return to the same immigration status they maintained before TPS (unless that status had since expired or been terminated) or to any other status they may have been granted while registered for TPS.

Why Is El Salvador Being Designated for the TPS Program?

El Salvador suffered a devastating earthquake on January 13, 2001, and experienced two more earthquakes on February 13 and 17, 2001. Based on a thorough review by the Departments of State and Justice, the Attorney General has determined that, due to the environmental disaster and substantial disruption of living conditions caused by the earthquakes, El Salvador is “unable, temporarily, to handle adequately the return” of its nationals. 8 U.S.C. 1254a(b)(1)(B).

A recent Department of State report indicates that the January 13 and February 13 earthquakes have resulted in at least 1,100 deaths, 7,859 injuries, and over 2,500 missing. In addition, the earthquakes have displaced an estimated 1.3 million persons out of El Salvador's population of 6.2 million (e.g. 17%), over 80,000 of whom are living in temporary camps. The Department of State further reports that approximately 220,000 homes, 1,696 schools, and 856 public buildings have been damaged or destroyed. Earthquake-caused losses in housing, infrastructure, and the agricultural sector exceed $2.8 billion.

The significant damage from the earthquakes has resulted in a “substantial, but temporary, disruption of living conditions” in El Salvador, such that El Salvador “is unable, temporarily, to handle adequately the return” of its nationals. 8 U.S.C. 1254a(b)(1)(B)(i) and (ii). The Government of El Salvador submitted a formal request for TPS designation to the Secretary of State on January 17, 2001. 8 U.S.C. 1254a(b)(1)(B)(iii). Accordingly, the Attorney General has determined that conditions in El Salvador warrant the designation of El Salvador under the TPS program. This order will designate El Salvador under the TPS program for an initial period of 18 months.

Who Is Eligible for El Salvador TPS?

Nationals of El Salvador (and aliens having no nationality who last habitually resided in El Salvador) who have been “continuously physically present” in the United States since March 9, 2001, and have “continuously resided” in the United States since February 13, 2001, may apply for TPS within the registration period that begins on March 9, 2001 and ends on September 9, 2002. 8 U.S.C. 1254a(c)(1)(A)(i) and (ii).

Any national of El Salvador who has already applied for, or plans to apply for, any other immigration benefit or protection, may also apply for TPS. An application for TPS does not preclude or adversely affect an application for any other immigration benefit. Similarly, denial of an application for another immigration benefit does not affect an alien's ability to register for TPS, although the underlying basis for denying one form of relief may also affect one's eligibility for TPS. For example, an alien who has been convicted of an aggravated felony would be ineligible for both asylum and TPS.

An alien who is granted TPS during an initial period of designation may register for any extension of the TPS program that may be made. Nationals of El Salvador who do not file a TPS application during the initial registration period may be eligible to register during any subsequent extension of such designation if, at the time of the initial registration period, the applicant: (1) Is a nonimmigrant; (2) had been granted voluntary departure status or any relief from removal; (3) had made an application for change of status, adjustment of status, asylum, voluntary departure, or any relief from removal that was pending or subject to further review or appeal; (4) was a parolee or had a pending request for parole; or (5) was a spouse or child of an alien eligible to be a TPS registrant. An applicant for late initial registration must register within 60 days of the expiration or termination of one of the conditions described in items (1) through (5) of this paragraph. 8 CFR 244.2(f)(2), and (g).

How Do I Register for TPS?

During the registration period that begins on March 9, 2001 and ends September 9, 2002, applicants for TPS may register by submitting:

• An Application for Temporary Protected Status, Form I-821;

• Supporting evidence, as provided in 8 CFR 244.9 (describing evidence necessary to establish eligibility for TPS benefits);

• An Application for Employment Authorization, Form I-765;

• Two identification photographs (1½″ x 1½″); and

• For every applicant who is 14 years of age or older, a twenty-five dollar ($25) fingerprint fee. 8 CFR 103.7(b).

While a complete application must include the fingerprint fee for every applicant who is 14 years of age or older, applicants should not submit a completed fingerprint card (FD-258, Applicant Card) with the application package. Upon receipt of the application, the Service will mail an appointment letter with instructions to appear for fingerprinting at a Service-authorized Application Support Center (ASC).

A $50 fee must accompany the TPS application Form I-821. If the applicant requests employment authorization, he or she must submit a $100 fee with Form I-765. An applicant who does not seek employment authorization does not need to submit the $100 fee, but still must submit the Form I-765. A $25 fingerprint fee must also be submitted for every applicant who is 14 years of age or older. The applicant may request a fee waiver(s) in accordance with the regulations at 8 CFR 244.20.

If | Then
You are a national of El Salvador (or an alien having no nationality who last habitually resided in El Salvador) registering for TPS and employment authorization | You must complete and file: Form I-821, Application for Temporary Protected Status, with fee ($50), Form I-765, Application for Employment Authorization, with fee ($100), and Fingerprint fee ($25).
You already have employment authorization or do not want employment authorization | You must complete and file: Form I-821, with fee ($50), Form I-765, with no fee, and Fingerprint fee ($25).
You are registering for TPS and employment authorization and are requesting a fee waiver for the Form I-821 fee ($50) and Form I-765 fee ($100) | You must complete and file: Appropriately documented fee waiver request and requisite affidavit (and any other information) in accordance with 8 CFR 244.20, Form I-821, with no fee, Form I-765, with no fee, and Fingerprint fee ($25).

Where Should I Register for TPS?

Submit the completed forms and applicable fees to the Immigration and Naturalization Service (INS) Service Center that has jurisdiction over your place of residence. 8 CFR 244.7(a).

If you live in Connecticut, Delaware, the District of Columbia, Maine, Maryland, Massachusetts, New Hampshire, New Jersey, New York, Pennsylvania, Puerto Rico, Rhode Island, Vermont, Virginia, West Virginia, or in the U.S. Virgin Islands, mail your application to: Vermont Service Center, ATTN: TPS, 75 Lower Welden Street, St. Albans, VT 05479.

If you live in Arizona, California, Guam, Hawaii, or Nevada, mail your application to: California Service Center, ATTN: TPS, P.O. Box 10821, Laguna Niguel, CA 92607-0821.

If you live in Alabama, Arkansas, Florida, Georgia, Kentucky, Louisiana, Mississippi, New Mexico, North Carolina, Oklahoma, South Carolina, Tennessee, or Texas, mail your application to: Texas Service Center, P.O. Box 850997, Mesquite, TX 75185-0997.

If you live elsewhere in the United States, please mail your application to: Nebraska Service Center, P.O. Box 87821, Lincoln, NE 68501-7821.

Where Can I Find Information About the TPS Program?

Information concerning the TPS program for nationals of El Salvador (and aliens having no nationality who last habitually resided in El Salvador) will be available at the Service Internet Website, located at www.ins.usdoj.gov, the INS National Customer Service Center, at 1-800-375-5283, and at local Immigration and Naturalization Service offices upon publication of this notice.

Notice of Designation of El Salvador Under Temporary Protected Status Program

By the authority vested in me as Attorney General under section 244 of the Immigration and Nationality Act, as amended (8 U.S.C. 1254a), and after consultation with the appropriate agencies of the Government, I find that:

(1) El Salvador has endured three severe earthquakes resulting in a substantial, but temporary, disruption of living conditions in El Salvador;

(2) El Salvador is unable, temporarily, to handle adequately the return of its nationals;

(3) The Government of El Salvador officially has requested designation of El Salvador for TPS; and

(4) Permitting nationals of El Salvador (and aliens having no nationality who last habitually resided in El Salvador) to remain temporarily in the United States is not contrary to the national interest of the United States.

Accordingly, it is ordered as follows:

(1) El Salvador is designated for TPS under section 244(b)(1)(B) of the Act. Nationals of El Salvador (and aliens having no nationality who last habitually resided in El Salvador) who have been “continuously physically present” since March 9, 2001 and have “continuously resided in the United States” since February 13, 2001, may apply for TPS within the registration period that begins on March 9, 2001 and ends on September 9, 2002.

(2) I estimate that there are no more than 150,000 nationals of El Salvador (and aliens having no nationality who last habitually resided in El Salvador) in the United States who are eligible for TPS.

(3) Except as specifically provided in this notice, applications for TPS by nationals of El Salvador (and aliens having no nationality who last habitually resided in El Salvador) must be filed pursuant to the provisions of 8 CFR part 244. Aliens who wish to apply for TPS must file an Application for Temporary Protected Status, Form I-821, together with an Application for Employment Authorization, Form I-765, during the registration period that begins on March 9, 2001 and will remain in effect until September 9, 2002.

(4) A fee prescribed in 8 CFR 103.7(b)(1) of $50 dollars will be charged for each Application for Temporary Protected Status, Form I-821, filed during the registration period.

(5) A fee prescribed in 8 CFR 103.7(b)(1) of $100 dollars will be charged for each Application for Employment Authorization, Form I-765, filed by an alien requesting employment authorization. An alien who already has employment authorization or who does not wish to request employment authorization still must file Form I-765 for data gathering purposes without the $100 filing fee, together with Form I-821.

(6) A fee prescribed 8 CFR 103.7(b)(1) of $25 for fingerprinting must be submitted with the Form I-821.

(7) Applicants may request (a) fee waiver(s) in accordance with 8 CFR 244.20.

(8) Pursuant to section 244(b)(3)(A) of the Act, and after consultation with appropriate agencies of the Government, the Attorney General will review, at least 60 days before the expiration of the initial period of designation on September 9, 2002, the conditions in El Salvador to determine whether the conditions for designation of El Salvador under the TPS program continue to be met. Notice of that determination, including the basis for the determination, will be published in the Federal Register. If there is an extension of designation, late initial registration for TPS shall be allowed only pursuant to the requirements of 8 CFR 244.2(f)(2).

Dated: March 1, 2001.
John Ashcroft,
Attorney General.

[FR Doc. 01-5818 Filed 3-8-01; 8:45 am]

BILLING CODE 4410-10-P